DEPARTMENT OF ENERGY

Federal Energy Regulatory Commission

[Project No. 733-010]

Eric Jacobson; Notice of Application Accepted for Filing, Soliciting Motions to Intervene and Protests, Ready for Environmental Analysis, and Soliciting Comments, Recommendations, Terms and Conditions, and Fishway Prescriptions

October 1, 2008.

Take notice that the following hydroelectric application has been filed with the Commission and is available for public inspection.

a. Type of Application: Minor License.

b. Project No.: 733-010.

c. Date filed: April 9, 2008.

d. Applicant: Eric Jacobson.

e. Name of Project: Ouray Hydroelectric Project.

f. Location: The project is located on the Uncompahgre River in Ouray County, Colorado. The project occupies 4.25 acres of land within the Uncompahgre National Forest managed by the U.S. Forest Service.

g. Filed Pursuant to: Federal Power Act 16 U.S.C. 791(a)-825(r).

h. Applicant Contact: Eric Jacobson, P.O. Box 745, Telluride, Colorado 81435; (970) 369-4662.

i. FERC Contact: Steve Hocking, (202) 502-8753 or steve.hocking@ferc.gov.

j. Deadline for filing motions to intervene and protests, comments, recommendations, terms and conditions, and fishway prescriptions is December 1, 2008; reply comments are due January 14, 2009.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests, comments, recommendations, terms and conditions, and fishway prescriptions may be filed electronically via the Internet in lieu of paper. The Commission strongly encourages electronic filings. See 18 CFR 385.2001(a)(1)(iii) and the instructions on the Commission's Web site (http://www.ferc.gov) under the “e-Filing” link.

k. This application has been accepted for filing and is ready for environmental analysis.

l. Project Description: The project consists of the following existing facilities: (1) A 0.48-acre reservoir formed by a 70-foot-long masonry gravity dam with a maximum height of 72 feet consisting of a 51-foot-long non-overflow section and a 19-foot-wide spillway; (2) a 6,130-foot-long pressure pipeline; (3) a 32- by 65-foot powerhouse containing three turbine-generating units with a total authorized capacity of 632 kilowatts (kW); and (4) appurtenant facilities. The applicant proposes to upgrade turbine-generator unit No. 1 and add a fourth turbine-generator unit to increase the project's total installed capacity to 775 kW.

m. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item (h) above.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via e-mail of new filings and issuances related to this or other pending projects. For assistance, contact FERC Online Support.

o. Procedural schedule: The application will be processed according to the following Hydro Licensing Schedule. Revisions to the schedule will be made as appropriate.

Milestone | Target date
All stakeholders: interventions, protests, recommendations, terms and conditions, and fishway prescriptions due | December 1, 2008.
All stakeholders: reply comments due | January 14, 2009.
FERC issues single environmental assess (EA) (no draft EA) | March 2, 2009.
All stakeholders: EA comments due | April 1, 2009.
All stakeholders: modified terms and conditions due | June 1, 2009.

p. Final amendments to the application must be filed with the Commission no later than 30 days from the issuance date of this notice.

q. A license applicant must file no later than 60 days following the date of issuance of this notice: (1) A copy of the water quality certification; (2) a copy of the request for certification, including proof of the date on which the certifying agency received the request; or (3) evidence of waiver of water quality certification.

Nathaniel J. Davis, Sr.,
Deputy Secretary.

[FR Doc. E8-23619 Filed 10-6-08; 8:45 am]

BILLING CODE 6717-01-P